DEPARTMENT OF AGRICULTURE

Natural Resources Conservation Service

Highland Lake Fish Passage, Highland Lake Watershed, Westbrook, ME

AGENCY: Natural Resources Conservation Service, USDA.

ACTION: Notice of availability of Finding of No Significant Impact.

SUMMARY: The Natural Resources Conservation Service (NRCS) has prepared an Environmental Assessment (EA) for the Highland Lake Fish Passage Project, Westbrook, Maine. NRCS has found that the restoration of the Highland Lake Stream channel and alteration to the fishway would not result in a significant impact on the quality of the human environment, particularly when focusing on the significant adverse effects that NEPA is intended to help decision makers avoid and mitigate against. Therefore, NRCS has prepared a Finding of No Significant Impact (FONSI) in compliance with the National Environmental Policy Act (NEPA), as amended, and gives notice that an environmental impact statement is not being prepared.

FOR FURTHER INFORMATION CONTACT: Single copies of the EA and FONSI documents, may be obtained by contacting Mr. Wayne Munroe, District Conservationist, USDA-NRCS, 306 U.S. Route One, Suite A1, Scarborough, ME 04074, (207) 883-0159 ext. 101. For additional information related to this notice, contact Joyce Swartzendruber, State Conservationist, Natural Resources Conservation Service, 967 Illinois Avenue, Suite 3, Bangor, ME 04401-2700; telephone (207) 990-9100 ext. 3. Comments on the EA and FONSI must be received no later than 30 days after this notice is published.

DATES: Effective Date: Comments on the EA and FONSI must be postmarked on or before the effective date of June 19, 2006.

SUPPLEMENTARY INFORMATION: The sponsoring local organization, Maine Department of Marine Resources (MDMR), concurs with this determination and agrees with carrying forward the proposed project. The objective of the sponsoring local organization is to create a stable unbraided stream channel and improve a fish ladder in the Highland Lake Dam in order to provide passage for migrating anadromous fish.

The FONSI has been forwarded to the Federal Energy Regulatory Agency and to various Federal, State and local agencies and interested parties.

No administrative action on implementation of the proposed action will be taken until 30 days after the date of this publication in the Federal Register.

Dated: June 5, 2006.
Joyce A. Swartzendruber,
State Conservationist.

[FR Doc. E6-9196 Filed 6-12-06; 8:45 am]

BILLING CODE 3410-16-P